DEPARTMENT OF VETERANS AFFAIRS

Privacy Act of 1974; System of Records

AGENCY: Department of Veterans Affairs (VA).

ACTION: Notice to delete system of records.

SUMMARY: The Department of Veterans Affairs (VA) is deleting a system of records entitled “Veterans and Dependents (Living and Deceased) National Cemetery System Correspondence and Inquiry File-VA” (40VA42), which was first published at 42 FR 49749 (September 27, 1977). The System of Records was created to track inquiries from Veterans and their dependents regarding: burial location requests, issuances of headstones and markers, gravesite reservations, and other matters involving the National Cemetery Administration's (NCA) Memorial Programs. VA no longer maintains the System of Records. New data has not been added to these records in several years and all previously existing files have been destroyed in accordance with applicable records disposal schedules; therefore, the System of Records is dormant.

A “Report of Intention to Publish a Federal Register Notice of Deletion of a System of Records” and a copy of the deletion of system notice have been provided to the appropriate Congressional committees and to the Office of Management and Budget (OMB), as required by 5 U.S.C. 552a(r) and guidelines issued by OMB 65 CFR 77677, dated (December 12, 2000).

DATES: Effective Date: January 28, 2010.

FOR FURTHER INFORMATION CONTACT: Willie L. Lewis, NCA Privacy Officer, Department of Veterans Affairs, 810 Vermont Avenue, NW., Washington, DC 20420, (202) 461-6746.

Approved: January 12, 2010.
John R. Gingrich,
Chief of Staff, Department of Veterans Affairs.

[FR Doc. 2010-1721 Filed 1-27-10; 8:45 am]

BILLING CODE 8320-01-P